DEPARTMENT OF ENERGY

Federal Energy Regulatory Commission

[Project No. 13723-000]

Iron Mask Hydro, LLC; Notice of Preliminary Permit Application Accepted for Filing and Soliciting Comments, Motions To Intervene, and Competing Applications

October 20, 2010.

On May 6, 2010, and supplemented on July 15, 2010, Iron Mask Hydro, LLC filed an application for a preliminary permit, pursuant to section 4(f) of the Federal Power Act (FPA), proposing to study the feasibility of the Iron Mask Pumped Storage Project to be located near the U.S. Bureau of Reclamation's Canyon Ferry Lake in the vicinity of Townsend, Montana, in Broadwater County, Montana. The sole purpose of a preliminary permit, if issued, is to grant the permit holder priority to file a license application during the permit term. A preliminary permit does not authorize the permit holder to perform any land-disturbing activities or otherwise enter upon lands or waters owned by others without the owners' express permission.

The proposed project will consist of the following: (1) A 225-foot-high, 1,795-foot-long upper dam made of either zoned earth and rockfill or concrete-face earth and rockfill; (2) a 50-foot-high, 950-foot-long earth-filled upper saddle dike A; (3) a 20-foot-high, 400-foot-long earth-filled upper saddle dike B; (4) a 40-foot-high, 6,559-foot-long lower embankment made of zoned earth or rockfill; (5) an upper reservoir with a storage capacity of 4,888 acre-feet; (6) a lower reservoir with a storage capacity of 4,888 acre-feet; (7) a 1,626-foot-long, 12.9-foot-diameter unlined upper low-pressure tunnel; (8) a 4,809-foot-long, 12.9-foot-diameter unlined, concrete-lined, and steel-lined pressure shaft; (9) a 200-foot-long, 12.9-foot-diameter concrete-lined and steel-lined high pressure tunnel; (10) four 6.5-foot-diameter steel-lined penstocks (length to be determined); (11) a 5,073-foot-long, 15.5-foot-diameter concrete-lined or unlined tailrace; (12) a 260-foot-long, 65-foot-wide, 120-foot-high underground powerhouse located at a depth of 1,000 feet; (13) one 150-megawatt (MW), one 100-MW, and one 50-MW reversible pump-turbines totaling 300 MW of generating capacity, with up to 100 MW of additional pumping capacity, for a total of 400 MW pumping capacity; (14) an approximately 3,000-footlong, 24-foot-high main access tunnel leading from the ground level to the powerhouse; and (15) a new single-circuit 230-kilovolt, 4.9-mile-long transmission line with a 150-foot right of way. Annual energy production is estimated to be 919,800 megawatt-hours.

Applicant Contact: Matthew Shapiro, CEO, Gridflex Energy, LLC, 1210 W. Franklin Street, Ste. 2, Boise, ID 83702; phone: (208) 246-9925.

FERC Contact: Kelly Wolcott (202) 502-6480.

The deadline for filing comments, motions to intervene, competing applications (without notices of intent), or notices of intent to file competing applications has been extended 60 days from the issuance of this notice to December 20, 2010. Entities that have already filed comments, motions to intervene, competing applications, or notices of intent to file competing applications do not need to re-file. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13723) in the docket number field to access the document. For assistance, contact FERC Online Support.

Kimberly D. Bose,
Secretary.

[FR Doc. 2010-27124 Filed 10-26-10; 8:45 am]

BILLING CODE 6717-01-P